DEPARTMENT OF JUSTICE

Notice of Lodging of Proposed Consent Decree Under The Clean Air Act

Notice is hereby given that, on July 20, 2000, a Consent Decree in United States, Plaintiff, and States of Arkansas, Louisiana, and south Carolina Dept. of Health and Environmental Control, Plaintiff-Intervenors v. Willamette Industries, Inc. Civil Action No. CV-00-1001-HA, was lodged in the United States District Court for the District of Oregon.

In this action the United States and the Plaintiff-Intervenors sought injunctive relief and civil penalties under Section 113(b) of the Clean Air Act (“CAA”), 42 U.S.C. 7413(b) against Willamette Industries, Inc. (“Willamette”). The alleged violations include the failure to install pollution control devices and obtain permits, required by the CAA, at wood product manufacturing facilities owned and operated by Willamette in: Emerson and Malvern Arkansas; Dodson, Ruston, Zwolle, Lillie, Taylor and Simsboro Louisiana; Bend, Eugene, Foster, Springfield and Sweet Home Oregon, and Chester South Carolina. The Consent Decree resolves all of these claims. The Consent Decree requires Willamette to pay a civil penalty of just over $11.2 million, to perform Supplemental Environmental Projects costing at least $8 million, to install pollution control devices on its facilities, and to perform environmental audits of its facilities.

The Department of Justice will accept written comments relating to the proposed Consent Decree for thirty (30) days from the date of publication of this notice. Please address comments to the Assistant Attorney General, Environment and Natural Resources Division, Department of Justice, P.O. Box 7611, Ben Franklin Station, Washington, D.C. 20044 and refer to United States et al. v. Willamette Industries, Inc., Civil Action No. CV-00-1001-HA (D. Oregon), DJ # 90-5-2-1-2186.

Copies of the Consent Decree may be examined at the Office of the United States Attorney for the District of Oregon, 1000 S.W. Third Ave., Suite 600, Portland OR 97204. An electronic copy of the Consent Decree is available online at: http://es.epa.gov/oeca/ore/aed/willamette/index.html. A copy of the Consent Decree may also be obtained by mail at the Department of Justice Consent Decree Library, P.O. Box 7611, Washington, D.C. 20044. When requesting a copy of the proposed modification to the Consent Decree by mail, please enclose a check in the amount of $12.75 (twenty-five cents per page reproduction costs) payable to the “Consent Decree Library.”

Joel Gross,
Chief, Environmental Enforcement Section, Environment and Natural Resources Division, U.S. Department of Justice.

[FR Doc. 00-19384 Filed 7-31-00; 8:45 am]

BILLING CODE 4410-15-M